DEPARTMENT OF AGRICULTURE

Rural Housing Service

Notice of Solicitation of Applications (NOSA) for Loans to Re-Lenders Under the Community Facility Loan Program for Fiscal Year (FY) 2016; Correction

AGENCY: Rural Housing Service, USDA.

ACTION: Notice; correction.

SUMMARY: The Agency published a document in the Federal Register of July 6, 2016, seeking applications from Re-Lenders under the Community Facility (CF) Loan Program for FY 2016. The Rural Housing Service (RHS) amended the CF Direct Loan regulations to make loans to qualified Re-Lenders who will loan those funds to Applicants primarily for projects in or serving persistent poverty counties or high poverty areas that are eligible for the CF Loan Program. This document has an incorrect cross-reference and an incorrect hyperlink which both need to be corrected.

DATES: Effective August 8, 2016.

FOR FURTHER INFORMATION CONTACT: Requests for additional information should be directed to Alton Kimura, (202) 720-1390.

Correction

In the Federal Register of July 6, 2016, FR Doc 2016-16003, make the following corrections:

1. On page 43987, third column, fifth paragraph, fifth line, under section III. Definitions: Remove hyperlink http://rdgisportal.sc.egov.usda.gov/home/index.html, and add http://rdgdwe.sc.egov.usda.gov/rdpoverty/index.html.

2. On page 43989, second column, second line under section V(A)(p) of V. Application Submission: Remove cross reference (IV)(A)(e)(3)(b) (Agency risk assessment)and add (IV)(A)(h)(ii).

Dated: August 3, 2016.
Joyce Allen,
Acting Administrator, Rural Housing Service.

[FR Doc. 2016-18825 Filed 8-5-16; 8:45 am]

BILLING CODE 3410-XV-P